DEPARTMENT OF ENERGY

Federal Energy Regulatory Commission

[Docket Nos. PH06-71-000; PH06-72-000; PH06-73-000; PH06-74-000; PH06-75-000; PH06-76-000; PH06-77-000; PH06-78-000; PH06-79-000; PH06-80-000; PH06-81-000; PH06-82-000; PH06-83-000; PH06-84-000; PH06-85-000; PH06-87-000; PH06-88-000; PH06-89-000; PH06-90-000; PH06-91-000; PH06-92-000; PH06-93-000; PH06-94-000; PH06-95-000; PH06-96-000; PH06-97-000; PH06-98-000; PH06-99-000; PH06-100-000; PH06-101-000; PH06-102-000]

Questar Corporation; Questar Corporation; C&T Enterprises, Inc.; NWO Resources, Inc.; TECO Energy, Inc.; FPL Group, Inc.; Enbridge Gas Distribution, Inc.; Phelps Dodge Corporation; Stanley Works; Sierra Pacific Resources Operating Companies; UnionBanCal Corporation; UnionBanCal Equities, Inc.; Bankers Commercial Corporation; EnergySouth, Inc.; Barrick Gold Corporation; PG&E Corporation; Trans-Elect, Inc.; Merrill Lynch & Company, Inc.; Energy West Resources, Inc.; Horizon Asset Management, Inc.; Ironhill Transmission, LLC; UIL Holdings Corporation; Brookfield Asset Management Inc.; ATC Management Inc.; AES Corporation; Pinnacle West Capital Corporation; ArcLight Capital Holdings, LLC; National Fuel Gas Company; LGB Cap Rock LLC; Empire Distribution Electrical Company; The Laclede Group, Inc.; Sowood Capital Management LP; Notice of Effectiveness of Holding Company and Transaction Exemptions and Waivers

October 11, 2006.

Take notice that in August and September 2006 the holding company and transaction exemptions and waivers requested in the above-captioned proceedings are deemed to have been granted by operation of law pursuant to 18 CFR 366.4.

Magalie R. Salas,
Secretary.

[FR Doc. E6-17210 Filed 10-16-06; 8:45 am]

BILLING CODE 6717-01-P